DEPARTMENT OF ENERGY

Federal Energy Regulatory Commission

Combined Notice of Filings # 1

January 3, 2008.

Take notice that the Commission received the following electric corporate filings:

Docket Numbers: EC08-28-000.

Applicants: Lehman Brothers Commodity Services, Inc.; Eagle Energy Partners I, LP.

Description: Lehman Brothers Commodity Services, Inc's et al. application for authorization for disposition of jurisdictional facilities and request for expedited action.

Filed Date: 12/26/2007.

Accession Number: 20071228-0115.

Comment Date: 5 p.m. Eastern Time on Wednesday, January 16, 2008.

Docket Numbers: EC08-29-000.

Applicants: APX, Inc.

Description: APX, Inc. submits an application for authorization for disposition of jurisdictional facilities and request for expedited action.

Filed Date: 12/21/2007.

Accession Number: 20071228-0117.

Comment Date: 5 p.m. Eastern Time on Friday, January 11, 2008.

Take notice that the Commission received the following exempt wholesale generator filings:

Docket Numbers: EG08-28-000.

Applicants: Waterbury Generation, LLC.

Description: Waterbury Generation, LLC submits Notice of Self-Certification of Exempt Wholesale Generator Status.

Filed Date: 12/20/2007.

Accession Number: 20071228-0002.

Comment Date: 5 p.m. Eastern Time on Thursday, January 10, 2008.

Take notice that the Commission received the following electric rate filings:

Docket Numbers: ER99-2251-007; ER99-2252-008; ER97-705-018; ER02-2080-007; ER02-2546-008; ER99-3248-010; ER99-1213-008; ER01-1526-008.

Applicants: Consolidated Edison Company of New York, Inc.; Orange & Rockland Utilities, Inc.; Consolidated Edison Solutions, Inc.; Ocean Peaking Power, LLC; CED Rock Springs, Inc.; ConEdison Energy Massachusetts, Inc.; Lakewood Cogeneration LP; Newington Energy, L.L.C.

Description: Consolidated Edison Company of New York, Inc et al. submits market based rate tariffs.

Filed Date: 12/20/2007.

Accession Number: 20071228-0061.

Comment Date: 5 p.m. Eastern Time on Thursday, January 10, 2008.

Docket Numbers: ER02-1173-004; ER02-1336-004; ER06-1265-001.

Applicants: Front Range Power Company, LLC; Vandolah Power Company, LLC; Orlando Cogen LTD LP.

Description: Front Range Power Co, LLC et al. submits a supplement to the Notice of Non-Material Change in Status.

Filed Date: 12/21/2007.

Accession Number: 20071227-0196.

Comment Date: 5 p.m. Eastern Time on Friday, January 11, 2008.

Docket Numbers: ER02-305-006.

Applicants: Condon Wind Power, LLC.

Description: Condon Wind Power, LLC submits an amendment to its 11/9/07 filing of a non-material change in status resulting from new affiliations by one of its upstream parent companies.

Filed Date: 12/21/2007.

Accession Number: 20071227-0194.

Comment Date: 5 p.m. Eastern Time on Friday, January 11, 2008.

Docket Numbers: ER03-774-006.

Applicants: Eagle Energy Partners I, LP.

Description: Eagle Energy Partners I, LP submits a Notice of Non-Material Change in Status.

Filed Date: 12/21/2007.

Accession Number: 20071228-0054.

Comment Date: 5 p.m. Eastern Time on Friday, January 11, 2008.

Docket Numbers: ER03-1207-006.

Applicants: AES Delano, Inc.; Covanta Delano, Inc.

Description: Covanta Delano, Inc. submits First Revised Sheet 1 to FERC Electric Tariff, First Revised Volume 1, to be effective 12/26/07.

Filed Date: 12/26/2007.

Accession Number: 20071228-0055.

Comment Date: 5 p.m. Eastern Time on Wednesday, January 16, 2008.

Docket Numbers: ER04-835-009.

Applicants: California Independent System Operator Corporation.

Description: The California Independent System Operator Corp in compliance with FERC's Order on Rehearing issued on 11/20/07 submits revisions to the CAISO Tariff re the use of the Must-Offer Obligation etc.

Filed Date: 12/20/2007.

Accession Number: 20080102-0264.

Comment Date: 5 p.m. Eastern Time on Thursday, January 10, 2008.

Docket Numbers: ER05-1420-005.

Applicants: Lehman Brothers Commodity Services Inc.

Description: Lehman Brothers Commodity Services, Inc. submits a Notice of Non-Material Change in Status.

Filed Date: 12/21/2007.

Accession Number: 20071228-0056.

Comment Date: 5 p.m. Eastern Time on Friday, January 11, 2008.

Docket Numbers: ER05-717-007; ER05-721-007; ER04-374-007; ER99-2341-009; ER06-230-004; ER06-1334-004; ER07-277-002; ER07-810-001.

Applicants: Spring Canyon Energy LLC; Judith Gap Energy LLC; Invenergy TN LLC; Hardee Power Partners LTD; Wolverine Creek Energy LLC; Spindle Hill Energy LLC; Invenergy Cannon Falls LLC; Grays Harbor Energy LLC.

Description: Spring Canyon Energy LLC et al submits a joint notice of change in status under the market-based rate authority and revised tariffs in compliance with Order 697.

Filed Date: 12/21/2007.

Accession Number: 20071228-0062.

Comment Date: 5 p.m. Eastern Time on Friday, January 11, 2008.

Docket Numbers: ER07-93-001.

Applicants: Entergy Services, Inc.; Entergy Services Inc.

Description: Entergy Services, Inc. on behalf of Entergy Operating Companies submits a refund report.

Filed Date: 12/20/2007.

Accession Number: 20071228-0066.

Comment Date: 5 p.m. Eastern Time on Thursday, January 10, 2008.

Docket Numbers: ER07-1199-001.

Applicants: Airtricity Munnsville Wind Farm, LLC.

Description: Airtricity Munnsville Wind Farm, LLC's response to FERC Staff's request to re-format certain tariff sheets submitted with their 11/30/07 Notice of Change in Status.

Filed Date: 12/20/2007.

Accession Number: 20071227-0195.

Comment Date: 5 p.m. Eastern Time on Thursday, January 10, 2008.

Docket Numbers: ER07-1267-001.

Applicants: Arizona Public Service Company.

Description: Arizona Public Service Co. submits a compliance filing of the Operation and Maintenance Agreement with Southwest Transmission Cooperative, Inc for the Round Valley Substation.

Filed Date: 12/21/2007.

Accession Number: 20071228-0063.

Comment Date: 5 p.m. Eastern Time on Friday, January 11, 2008.

Docket Numbers: ER07-371-004.

Applicants: Southwest Power Pool, Inc.

Description: Southwest Power Pool, Inc submits a compliance filing containing a modification to Schedule 2 of its OATT.

Filed Date: 12/20/2007.

Accession Number: 20071228-0057.

Comment Date: 5 p.m. Eastern Time on Thursday, January 10, 2008.

Docket Numbers: ER07-527-002.

Applicants: Longview Fibre Paper and Packaging, Inc.

Description: Longview Fibre Paper and Packaging, Inc. submits an amendment to its 11/30/07 filing of a Notice of Non-Material Change in Status.

Filed Date: 12/21/2007.

Accession Number: 20071228-0050.

Comment Date: 5 p.m. Eastern Time on Friday, January 11, 2008.

Docket Numbers: ER08-14-002.

Applicants: Alpha Domestic Power Trading, L.L.C.

Description: Alpha Domestic Power Trading, LLC submits Substitute Original Sheet 1 to FERC Electric Tariff, Original Volume 1 effective 10/8/07.

Filed Date: 12/20/2007.

Accession Number: 20071228-0059.

Comment Date: 5 p.m. Eastern Time on Thursday, January 10, 2008.

Docket Numbers: ER08-241-001.

Applicants: Consolidated Water Power Company.

Description: Consolidated Water Power Co. submits a Service Agreement for Wholesale Distribution Service with the City of Wisconsin Rapids, WI.

Filed Date: 12/21/2007.

Accession Number: 20071228-0060.

Comment Date: 5 p.m. Eastern Time on Friday, January 11, 2008.

Docket Numbers: ER08-284-001.

Applicants: Argo Navis Fundamental Power Fund, L.P.

Description: Argo Navis Fundamental Power Fund, LP requests acceptance of FERC Electric Tariff, Original Vol 1.

Filed Date: 12/20/2007.

Accession Number: 20071228-0058.

Comment Date: 5 p.m. Eastern Time on Thursday, January 10, 2008.

Docket Numbers: ER08-326-001.

Applicants: Lehigh Capital, LLC.

Description: Lehigh Capital, LLC submits an amendment to the 12/08//07 application for authorization to sell power and energy at market-based rates.

Filed Date: 12/27/2007.

Accession Number: 20071228-0065.

Comment Date: 5 p.m. Eastern Time on Thursday, January 17, 2008.

Docket Numbers: ER08-363-000.

Applicants: PJM Interconnection, L.L.C.

Description: PJM Interconnection, LLC submits an Executed Interconnection Construction Service Agreement with James River Cogeneration Co. et al.

Filed Date: 12/21/2007.

Accession Number: 20071227-0201.

Comment Date: 5 p.m. Eastern Time on Friday, January 11, 2008.

Docket Numbers: ER08-367-000.

Applicants: California Independent System Operator Corporation.

Description: California Independent System Operator Corp's filing of Fourth Replacement Version of FERC Electric Tariff.

Filed Date: 12/21/2007.

Accession Number: 20071227-0159.

Comment Date: 5 p.m. Eastern Time on Friday, January 11, 2008.

Docket Numbers: ER08-375-000.

Applicants: Southern California Edison Company.

Description: Southern California Edison submits Second Revised Sheet 3 et al. to FERC Electric Tariff, Second Revised Volume 6, to be effective 3/1/08.

Filed Date: 12/21/2007.

Accession Number: 20071228-0067.

Comment Date: 5 p.m. Eastern Time on Friday, January 11, 2008.

Docket Numbers: ER08-376-000.

Applicants: PJM Interconnection, L.L.C.

Description: PJM Interconnection, LLC submits revisions to the PJM Credit Policy Attachment Q.

Filed Date: 12/26/2007.

Accession Number: 20071228-0049.

Comment Date: 5 p.m. Eastern Time on Wednesday, January 16, 2008.

Docket Numbers: ER08-377-000.

Applicants: PJM Interconnection, L.L.C.

Description: PJM Interconnection, LLC submits an executed Wholesale Market Participation Agreement with Winnebago Energy Center et al.

Filed Date: 12/26/2007.

Accession Number: 20071228-0051.

Comment Date: 5 p.m. Eastern Time on Wednesday, January 16, 2008.

Docket Numbers: ER08-378-000.

Applicants: Covanta Delano, Inc.

Description: Covanta Delano, Inc submits a Notice of Succession to notify FERC of its adoption of AES Delano, Inc's Rate Schedule FERC 1.

Filed Date: 12/26/2007.

Accession Number: 20071228-0052.

Comment Date: 5 p.m. Eastern Time on Wednesday, January 16, 2008.

Docket Numbers: ER08-379-000.

Applicants: Rensselaer Cogeneration LLC.

Description: Rensselaer Cogeneration LLC submits an application for Market-Based Rate Authority for Sales and Ancillary Services.

Filed Date: 12/26/2007.

Accession Number: 20071228-0053.

Comment Date: 5 p.m. Eastern Time on Wednesday, January 16, 2008.

Docket Numbers: ER08-380-000.

Applicants: Sierra Pacific Power Company.

Description: Sierra Pacific Power Co. submits revisions to Exhibit F of the General Transfer Agreement with Bonneville Power Administration.

Filed Date: 12/26/2007.

Accession Number: 20071228-0064.

Comment Date: 5 p.m. Eastern Time on Wednesday, January 16, 2008.

Docket Numbers: ER08-381-000.

Applicants: Ameren Energy Development Company.

Description: Ameren Energy Development Company submits notice of cancellation of its Power Supply Agreement with Ameren Energy Marketing Co.

Filed Date: 12/28/2007.

Accession Number: 20071231-0109.

Comment Date: 5 p.m. Eastern Time on Friday, January 18, 2008.

Docket Numbers: ER08-382-000.

Applicants: Ameren Energy Development Company.

Description: Ameren Energy Development Co. submits a notice of cancellation of its Power Sales Tariff for the Sale of Energy and Capacity at Market-Based Rates.

Filed Date: 12/28/2007.

Accession Number: 20071231-0108.

Comment Date: 5 p.m. Eastern Time on Friday, January 18, 2008.

Docket Numbers: ER08-383-000.

Applicants: Ameren Energy Generating Company.

Description: Ameren Energy Generating Co. submits a notice of cancellation of a long-term lease agreement with Ameren Energy Development Co.

Filed Date: 12/28/2007.

Accession Number: 20071231-0107.

Comment Date: 5 p.m. Eastern Time on Friday, January 18, 2008.

Docket Numbers: ER08-384-000.

Applicants: Midwest Electric Power, Inc.

Description: Midwest Electric Power, Inc. submits a Site Sub-Lease and Operation & Maintenance Agreement with Ameren Energy Generating Co.

Filed Date: 12/28/2007.

Accession Number: 20071231-0106.

Comment Date: 5 p.m. Eastern Time on Friday, January 18, 2008.

Docket Numbers: ER08-387-000.

Applicants: Atlantic Renewables Projects II LLC.

Description: Application of Atlantic Renewable Projects II LLC for Order Accepting Initial Tariff, Granting Shortened Comment Period, Waiving Regulations and Granting Blanket Approvals.

Filed Date: 12/28/2007.

Accession Number: 20071231-0105.

Comment Date: 5 p.m. Eastern Time on Friday, January 11, 2008.

Docket Numbers: ER08-388-000.

Applicants: PacifiCorp.

Description: PacifiCorp submits a letter agreement for Losses with Bonneville Power Administration.

Filed Date: 12/28/2007.

Accession Number: 20071231-0104.

Comment Date: 5 p.m. Eastern Time on Friday, January 18, 2008.

Docket Numbers: ER08-390-000.

Applicants: NorthWestern Corporation; Montana Generation LLC.

Description: Montana Generation LLC and NorthWestern Corporation's market based Power Purchase Agreement.

Filed Date: 12/28/2007.

Accession Number: 20071228-5051.

Comment Date: 5 p.m. Eastern Time on Friday, January 18, 2008.

Take notice that the Commission received the following open access transmission tariff filings:

Docket Numbers: OA08-62-000.

Applicants: California Independent System Operator Corporation.

Description: California Independent System Operator Corp submits their compliance filing pursuant to FERC's Order 890.

Filed Date: 12/21/2007.

Accession Number: 20071228-0116.

Comment Date: 5 p.m. Eastern Time on Friday, January 11, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis,
Deputy Secretary.

[FR Doc. E8-408 Filed 1-11-08; 8:45 am]

BILLING CODE 6717-01-P